DEPARTMENT OF ENERGY

Federal Energy Regulatory Commission

[Docket No. RP00-345-000]

K N Wattenberg Transmission L.L.C; Notice of Proposed Changes in FERC Gas Tariff

June 21, 2000.

Take notice that on June 15, 2000, K N Wattenberg Transmission L.L.C. (KNW) tendered for filing to become part of its FERC Gas Tariff, First Revised Volume No. 1, the following tariff sheets to be effective August 1, 2000:

First Revised Sheet No. 85D

Second Revised Sheet No. 86

First Revised Sheet No. 86B

First Revised Sheet No. 86D

First Revised Sheet No. 87A

First Revised Sheet No. 87D

KNW states that on February 9, 2000, the Commission issued its final rule regarding the regulations of short-term interstate natural gas transportation services in Docket Nos. RM98-10-000 and RM98-12-000 (Order No. 637). In the instant filing, KNW is filing to implement provisions of Order No. 637 regarding the waiver of the rate ceiling for short-term capacity release transactions.

KNW states that Order No. 637 provides for a waiver of the rate ceiling for short-term (less than one year) capacity release transactions until September 30, 2002 and requires pipelines to file tariff revisions within 180 days of the effective date of the rule, i.e., March 27, 2000, to remove tariff sheets as required. Unless extended by Commission action, the tariff provisions removing the price cap submitted herein shall not be effective after September 30, 2002, and KNW shall file revised tariff sheets as required.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-16134 Filed 6-26-00; 8:45 am]

BILLING CODE 6717-01-M